DEPARTMENT OF VETERANS AFFAIRS

38 CFR Part 17

Medical

CFR Correction

This rule is being published by the Office of the Federal Register to correct an editorial or technical error that appeared in the most recent annual revision of the Code of Federal Regulations.

In Title 38 of the Code of Federal Regulations, Parts 0 to 17, revised as of July 1, 2025, in section 17.273, remove the paragraph (e) immediately following paragraph (c).

[FR Doc. 2025-18269 Filed 9-19-25; 8:45 am]

BILLING CODE 0099-10-P